POSTAL REGULATORY COMMISSION

[Docket No. CP2011-64; Order No. 698]

Parcel Select Price and Classification Changes

AGENCY: Postal Regulatory Commission.

ACTION: Notice.

SUMMARY: The Commission is noticing a recently-filed Postal Service notice of rate and classification changes affecting Parcel Select. The Postal Service seeks to implement new prices for Parcel Select for forwarding and return to sender. This notice informs the public of the filing, addresses preliminary procedural matters, and invites public comment.

DATES: Comments are due: March 24, 2011.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY INFORMATION: On March 16, 2011, the Postal Service filed notice with the Commission of changes in rates of general applicability and concomitant classification changes for a competitive product pursuant to 39 CFR 3015.2.¹ The Postal Service seeks to implement new prices for Parcel Select for forwarding and return to sender. The fee would be the applicable Parcel Select Barcoded Nonpresort prices, plus $3.00, for each Parcel Select forward or return. The proposed new prices will allow the Postal Service to more closely align with its competitors' charges.

¹ Notice of the United States Postal Service of Changes in Rates of General Applicability for a Competitive Product, Established in Governors' Decision No. 11-5, March 16, 2011 (Notice).

The Postal Service includes six attachments with its Notice in support of its proposal to add new prices:

• Decision of the Governors of the United States Postal Service on Establishment of Rate and Class of General Applicability for Parcel Select Forwarding and Return to Sender (Governors' Decision No. 11-5);

• Management Analysis of Parcel Select Forwarding and Return to Sender;

• Certification of Governors' Vote in the Governors' Decision No. 11-5;

• Cost coverage analysis;

• Proposed Mail Classification Schedule language; and

• Application of the United States Postal Service for Non-Public Treatment of Materials. An unredacted copy of certain materials also has been filed with the Commission.

The Commission establishes Docket No. CP2011-64 for consideration of matters related to the proposed new prices identified in the Notice.

Interested persons may submit comments on whether the Postal Service's Notice is consistent with the policies of 39 U.S.C. 3632, 3633 and 3642 as well as 39 CFR parts 3015 and 3020. Comments are due no later than March 24, 2011. The Postal Service's Notice can be accessed via the Commission's Web site (http://www.prc.gov).

The Commission appoints William C. Miller to serve as Public Representative in the captioned proceeding.

It is ordered:

1. The Commission establishes Docket No. CP2011-64 for consideration of matters raised by the Postal Service's Notice.

2. Comments by interested persons in this proceeding are due no later than March 24, 2011.

3. Pursuant to 39 U.S.C. 505, William C. Miller is appointed to serve as the officer of the Commission (Public Representative) to represent the interests of the general public in this proceeding.

4. The Secretary shall arrange for publication of this Order in the Federal Register.

By the Commission.
Ruth Ann Abrams,
Acting Secretary.

3

[FR Doc. 2011-6797 Filed 3-22-11; 8:45 am]

BILLING CODE 7710-FW-P